FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—11/03/2008
20081712 | General Dynamics Corporation | Permira Europe III L.P. 2 | Jet Aviation Holding AG
TRANSACTIONS GRANTED EARLY TERMINATION—11/05/2008
20090015 | eBay Inc. | Bill Me Later | Bill Me Later
20090075 | Russell A. Gerdin | Heartland Express, Inc. | Heartland Express, Inc.
TRANSACTIONS GRANTED EARLY TERMINATION—11/07/2008
20090041 | Atlantic Power Corporation | ArcLight Energy Partners Fund I, L.P | Auburndale Holdings, LLC
20090074 | Mercury General Corporation | Aon Corporation | AIS Management Corporation
20090084 | GlaxoSmithKline plc | Affiris GmbH | Affiris GmbH
20090091 | First Reserve Fund XII, L.P | Reliant Energy, Inc. | Reliant Energy, Inc.
20090093 | TPF II, L.P. | MACH Gen, LLC | New Covert Generating Company, LLC
TRANSACTIONS GRANTED EARLY TERMINATION—11/07/2008
20090038 | Hewlett-Packard Company | LeftHand Networks, Inc. | LeftHand Networks, Inc.
TRANSACTIONS GRANTED EARLY TERMINATION—11/10/2008
20081739 | Teradyne, Inc. | Eagle Test Systems, Inc | Eagle Test Systems, Inc.
TRANSACTIONS GRANTED EARLY TERMINATION—11/12/2008
20090081 | Biovitrum AB (publ) | Amgen Inc. | Amgen Inc.
20090089 | United Technologies Corporation | OCM/GFI Power Opportunities Fund II, L.P | Noresco Acquisition, Inc.
20090094 | West Corporation | Silver Lake Partners II, L.P | IPC Information Systems Holdings, Inc.
20090099 | Commerzbank AG | Allianz SE | Dresdner Bank AG
TRANSACTIONS GRANTED EARLY TERMINATION—11/13/2008
20090078 | New Mountain Partners III, L.P | Camber Corporation | Camber Corporation
TRANSACTIONS GRANTED EARLY TERMINATION—11/14/2008
20081781 | Aon Corporation | Benfield Group Limited | Benfield Group Limited
20090090 | Spectrum Equity Investors IV, L.P | RiskMetrics Group, Inc. | RiskMetrics Group, Inc.

FOR FURTHER INFORMATION CONTACT: Sandra M. Peay, Contact Representative, or Renee Hallman, Contact Representative, Federal Trade Commission, Premerger Notification Office, Bureau of Competition, Room H-303, Washington, DC 20580 (202) 326-3100.

By Direction of the Commission.
Donald S. Clark,
Secretary.

[FR Doc. E8-28164 Filed 11-28-08; 8:45 am]

BILLING CODE 6750-01-M